DEPARTMENT OF ENERGY

Federal Energy Regulatory Commission

Combined Notice of Filings #1

Take notice that the Commission received the following electric rate filings:

Docket Numbers: ER13-1352-000.

Applicants: Massachusetts Electric Company.

Description: Refund Report Regarding Interconnection Agreement with Ameresco Northampton to be effective N/A.

Filed Date: 10/8/13.

Accession Number: 20131008-5125.

Comments Due: 5 p.m. ET 10/29/13.

Docket Numbers: ER13-2169-000.

Applicants: Goal Line L.P.

Description: Supplement to Application for Market-Based Rate Authorization of Goal Line L.P.

Filed Date: 10/1/13.

Accession Number: 20131001-5164.

Comments Due: 5 p.m. ET 10/22/13.

Docket Numbers: ER13-2308-000.

Applicants: Sapphire Power Marketing LLC.

Description: Supplement to September 3, 2013 Sapphire Power Marketing LLC tariff filing.

Filed Date: 10/8/13.

Accession Number: 20131008-5126.

Comments Due: 5 p.m. ET 10/22/13.

Docket Numbers: ER14-55-000.

Applicants: Arizona Public Service Company.

Description: Cancellation of Service Agreement No. 315—Boquillas LGIA to be effective 12/8/2013.

Filed Date: 10/8/13.

Accession Number: 20131008-5068.

Comments Due: 5 p.m. ET 10/29/13.

Docket Numbers: ER14-56-000.

Applicants: California Independent System Operator Corporation.

Description: 2013-10-08_NextEraDesertCenter to be effective 11/1/2013.

Filed Date: 10/8/13.

Accession Number: 20131008-5075.

Comments Due: 5 p.m. ET 10/29/13.

Docket Numbers: ER14-57-000.

Applicants: CES Placerita, Incorporated.

Description: Amended Change in Status Filing to be effective 9/30/2013.

Filed Date: 10/8/13.

Accession Number: 20131008-5087.

Comments Due: 5 p.m. ET 10/29/13.

Docket Numbers: ER14-58-000.

Applicants: The Potomac Edison Company, PJM Interconnection, L.L.C.

Description: FirstEnergy and Potomac Edison Co submit PJM Service Agreement No. 3649 to be effective 10/4/2013.

Filed Date: 10/8/13.

Accession Number: 20131008-5098.

Comments Due: 5 p.m. ET 10/29/13.

Docket Numbers: ER14-59-000.

Applicants: The Potomac Edison Company, PJM Interconnection, L.L.C.

Description: FirstEnergy and Potomac Edison Co submit Service Agreement No. 3650 to be effective 10/4/2013.

Filed Date: 10/8/13.

Accession Number: 20131008-5099.

Comments Due: 5 p.m. ET 10/29/13.

Docket Numbers: ER14-60-000.

Applicants: Southwest Power Pool, Inc.

Description: 2299R2 Rattlesnake Creek Wind Project, LLC GIA to be effective 9/26/2013.

Filed Date: 10/8/13.

Accession Number: 20131008-5100.

Comments Due: 5 p.m. ET 10/29/13.

Docket Numbers: ER14-61-000.

Applicants: Chestnut Flats Wind, LLC.

Description: Notice of Cancellation of Market-Based Rate Tariff for Chestnut Flats Wind to be effective 10/9/2013.

Filed Date: 10/8/13.

Accession Number: 20131008-5122.

Comments Due: 5 p.m. ET 10/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2013.
Nathaniel J. Davis, Sr.,
Deputy Secretary.

[FR Doc. 2013-24484 Filed 10-17-13; 8:45 am]

BILLING CODE 6717-01-P